Proclamation 10022 of April 30, 2020

Older Americans Month, 2020

By the President of the United States of America

A Proclamation

Older Americans are cherished and invaluable members of our society, deserving our utmost respect, gratitude, and admiration. During Older Americans Month, we pause to draw upon the wisdom, spirit, and experience older adults bring to our families, our communities, and our Nation. We also recognize that during this time of crisis caused by the coronavirus pandemic, we can persevere and prevail by emulating the resolve, tenacity, and determination of America's more experienced individuals who have endured and overcome life's most challenging times.

Older Americans have built our economy, defended our freedom, and shaped our Nation's character. They have raised families and dedicated themselves to improving the quality of life for future generations. They sacrificed in times of hardship and took pride in a job well done. Many served honorably in our Armed Forces during some of the darkest times in the history of our Republic. Older Americans have lived lives of service and sacrifice, bound by devotion to the sacred principles of our country. Although no one could begrudge them rest and respite during their retirement years, having worked decades to support and grow their families and nurture their communities, many older Americans spend their time volunteering for those in need, mentoring young people, or learning new skills. They pour love into their extended families, places of worship, and neighborhood centers, and offer profound perspective and insight gleaned from years of life lessons.

My Administration remains committed to enacting policies that benefit our Nation's older adults. In an effort to lower the cost of prescription drugs, the Food and Drug Administration has approved more generic drugs each year during my 3 years in office than any other year in the history of our country. We have also developed a path to allow less expensive prescription drugs to be imported from Canada. Additionally, I ended the terrible gag clauses that prevented pharmacists from telling patients when they could pay less out of pocket by not using their insurance. I have also taken executive action to improve seniors' access to medical care and to bolster Medicare's fiscal sustainability by reducing regulatory burdens and eliminating unnecessary barriers. This action puts older Americans first by strengthening the program and helping to ensure its success for years to come.

Our Nation's older Americans are among the most susceptible to fraud and other financial schemes. To help counter these vile crimes, I have instructed the Department of Justice (DOJ) to prioritize protecting older Americans from financial exploitation and use every tool they have to disrupt and prosecute these criminals. Over the last year, DOJ has taken unprecedented action against transnational fraud schemes that target seniors, the networks of “money mules” that move stolen funds from Americans' bank accounts to overseas fraudsters, and telephone companies that knowingly facilitate billions of fraudulent robocalls. DOJ has also launched an Elder Fraud Hotline (1-833-FRAUD-11) so that America's seniors can more easily report fraud, find resources, and better protect themselves from this abhorrent criminal behavior.

Older Americans are among those most vulnerable to the ravages of the coronavirus. As they continue to adhere to the special guidance put in place to protect them, we must acknowledge that far too many are facing hardships of loneliness and social isolation. Many families are unable to visit elderly parents and grandparents, and many men and women in retirement and nursing homes have been cut off from personal contact and meaningful social connections. During this precarious and stressful time, we must remember our treasured older adults and recommit to doing what we can to support and care for them. I urge all Americans to reach out to loved ones, neighbors, and strangers to extend love, compassion, and encouragement. By delivering food and supplies to the homebound, mailing greeting cards, or using technology to stay connected, we can support our seniors as we defeat the virus. Older Americans know how to overcome. They have done it their whole lives. With the country rallying behind them we can ensure that they can continue to live lives of dignity, joy, and purpose long after the threat of the virus has faded.

NOW, THEREFORE, I, DONALD J. TRUMP, President of the United States of America, by virtue of the authority vested in me by the Constitution and the laws of the United States, do hereby proclaim May 2020 as Older Americans Month. I call upon all Americans to honor our elders, acknowledge their contributions, care for those in need, and reaffirm our country's commitment to older Americans this month and throughout the year.

IN WITNESS WHEREOF, I have hereunto set my hand this thirtieth day of April, in the year of our Lord two thousand twenty, and of the Independence of the United States of America the two hundred and forty-fourth.

[FR Doc. 2020-09739

Filed 5-4-20; 11:15 am]

Billing code 3295-F0-P